DEPARTMENT OF TRANSPORTATION

Federal Aviation Administration

14 CFR Part 39

[Docket No. FAA-2010-1295; Directorate Identifier 2010-CE-060-AD]

RIN 2120-AA64

Airworthiness Directives; Piper Aircraft, Inc. (Type Certificate Previously Held by The New Piper Aircraft, Inc.) Models PA-46-310P, PA-46-350P, and PA-46R-350T Airplanes

AGENCY: Federal Aviation Administration (FAA), DOT.

ACTION: Notice of proposed rulemaking (NPRM).

SUMMARY: We propose to supersede an existing airworthiness directive (AD) that applies to certain Piper Aircraft, Inc. Models PA-46-310P and PA-46-350P airplanes that are equipped with a Lewis or Transicoil turbine inlet temperature (T.I.T.) gauge and associated probe. The existing AD currently requires calibrating the T.I.T. system; replacing any T.I.T. system that fails the calibration test; repetitively replacing the T.I.T. probe on certain Model PA-46-350P airplanes; and inserting a copy of the AD into the pilot's operating handbook (POH) for certain airplanes. Since we issued that AD, the manufacturer has revised related service information and added an airplane model to the list of affected airplanes. This proposed AD would retain the actions required by AD 99-15-04 R1, add certain Model PA-46R-350T airplanes to the Applicability section, expand the applicability to include other T.I.T. systems, and incorporate new service information. We are proposing this AD to prevent improper engine operation caused by improperly calibrated T.I.T. indicators or defective T.I.T. probes, which could result in engine damage/failure with consequent loss of control of the airplane.

DATES: We must receive comments on this proposed AD by February 14, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this AD, contact Piper Aircraft, Inc., 2926 Piper Drive, Vero Beach, Florida 32960; telephone: (772) 567-4361; fax: (772) 978-6573; Internet: http://www.newpiper.com/company/publications.asp. You may review copies of the referenced service information at the FAA, Small Airplane Directorate, 901 Locust St., Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Darby Mirocha, Aerospace Engineer, FAA, Atlanta Aircraft Certification Office, 1701 Columbia Avenue, College Park, Georgia 30337; phone: (404) 474-5573; fax: (404) 474-5605; e-mail: darby.mirocha@faa.gov.

SUPPLEMENTARY INFORMATION:

Comments Invited

We invite you to send any written relevant data, views, or arguments about this proposed AD. Send your comments to an address listed under the ADDRESSES section. Include “Docket No. FAA-2010-1295; Directorate Identifier 2010-CE-060-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On May 17, 2000, we issued AD 99-15-04 R1, Amendment 39-11747 (65 FR 33745, May 25, 2000), for certain Piper Aircraft, Inc. (type certificate previously held by The New Piper Aircraft, Inc.) Models PA-46-310P and PA-46-350P airplanes that are equipped with a Lewis or Transicoil turbine inlet temperature (T.I.T.) gauge and associated probe. That AD required calibrating the T.I.T. system; replacing any T.I.T. system that fails the calibration test; repetitively replacing the T.I.T. probe on Model PA-46-350P airplanes; and inserting a copy of the AD into the Emergency Procedures section of the POH for certain airplanes. That AD resulted from field reports that indicated service accuracy problems with the existing T.I.T. system on certain Piper Aircraft, Inc. Models PA-46-310P and PA-46-350P. We issued that AD to prevent improper engine operation caused by improperly calibrated T.I.T. indicators or defective T.I.T. probes, which could result in engine damage/failure with consequent loss of control of the airplane.

Actions Since Existing AD Was Issued

Since we issued AD 99-15-04 R1, the manufacturer has revised related service information and has added an airplane model to the list of affected airplanes. We have also determined that the scope of this proposed AD goes beyond only airplanes equipped with Lewis or Transicoil gauges and/or probes.

Relevant Service Information

We reviewed Piper Aircraft, Inc. Service Bulletin No. 995C, dated November 17, 2009. The service information describes procedures for calibrating the T.I.T. system and replacing the probe.

FAA's Determination

We are proposing this AD because we evaluated all the relevant information and determined the unsafe condition described previously is likely to exist or develop in other products of the same type design.

Proposed AD Requirements

This proposed AD would retain the requirements of AD 99-15-04 R1. This proposed AD would also add certain Model PA-46R-350T airplanes to the Applicability section, expand the applicability to include other T.I.T. systems, and incorporate new service information.

Costs of Compliance

We estimate that this proposed AD affects 898 airplanes of U.S. registry.

We estimate the following costs to comply with this proposed AD:

Estimated Costs
Action | Labor cost | Parts cost | Cost per product | Cost on U.S. operators
Clean and inspect the turbine inlet temperature gauge and probe for certain Models PA-46-310P and PA-46-350P airplanes | 1 work-hour × $85 per hour = $85 | Not applicable | $85 | $85 × 780 affected airplanes = $66,300.
Calibrate the turbine inlet temperature gauge for certain Models PA-46-310P and PA-46-350P airplanes | 4 work-hours × $85 per hour = $340 | Not applicable | 340 | $340 × 427 affected airplanes = $145,180.
Incorporate emergency procedures into POH | 1 workhour × $85 per hour = $85 | Not applicable | 85 | $85 × 898 affected airplanes = $76,330.

The requirements of this proposed AD add no additional economic burden other than the addition of an airplane model to the Applicability section.

We estimate the following costs to do any necessary replacements that would be required based on the results of the proposed inspection. We have no way of determining the number of aircraft that might need these replacements:

On-Condition Costs
Action | Labor cost | Parts cost | Cost per product
Replace probe | 1 work-hour × $85 per hour = $85. | $384 | $469

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 99-15-04 R1, Amendment 39-11747 (65 FR 33745, May 25, 2000), and adding the following new AD:

Piper Aircraft, Inc. (Type Certificate Previously Held by The New Piper Aircraft, Inc.): Docket No. FAA-2010-1295; Directorate Identifier 2010-CE-060-AD.

Comments Due Date

(a) The FAA must receive comments on this AD action by February 14, 2011.

Affected ADs

(b) This AD supersedes AD 99-15-04 R1, Amendment 39-11747.

Applicability

(c) This AD applies to the following Piper Aircraft, Inc. (type certificate previously held by The New Piper Aircraft, Inc.) Models PA-46-310P, PA-46-350P, and PA-46R-350T airplanes that:

(1) Are certificated in any category; and

(2) Equipped with a turbine inlet temperature (T.I.T.) system identified in table 1 of this AD. Relief from this AD is available only if the gauge and probe are replaced through STC and not if a second turbine inlet temperature gauge was installed while retaining the Lewis or Transicoil T.I.T. gauge and probe.

Group 1—Airplanes Previously Affected by AD 99-15-04 R1
Models | Serial Numbers (S/N)
PA-46-310P (Malibu) | 46-8408001 through 46-8608067 and 4608001 through 4608140.
PA-46-350P (Malibu Mirage) | 4622001 through 4622200 and 4636001 through 4636020.

Group 2—Airplanes Not Previously Affected by AD 99-15-04 R1
Models | Serial Numbers (S/N)
PA-46-350P (Malibu Mirage) | 4636021 and subsequent.
PA-46R-350T (Matrix) | 4692001 and subsequent.

Table 1—Affected Airplane Models and Corresponding Affected Lewis or Transicoil Part Numbers (P/Ns)
Models | S/N | Indication System P/N | Probe P/N
PA-46-310P | 46-8408001 through 46-8608067 and 4608001 through 4608140. | Lewis T.I.T. analog indicators P/N 471-008 | 471-009 or 481-387.
PA-46-350P | 4622001 through 4622200 and 4636001 through 4636020 | Lewis T.I.T. analog indicators P/N 471-008 | 481-389 or 481-392 or 686-216 (preferred).
PA-46-350P | 4636021 through 4636374 | Lewis T.I.T. digital indicators P/N 548-811 | 481-389 or 481-392 or 686-216 (preferred).
PA-46-350P | 4636375 and subsequent | Avidyne Entegra or other Electronic Flight Information System (EFIS) display | 686-216.
PA-46R-350T | 4692001 and subsequent | Avidyne Entegra or other EFIS display | 686-216.

Subject

(d) Joint Aircraft System Component (JASC)/Air Transport Association (ATA) of America Code 77, Engine Indicating.

Unsafe Condition

(e) This AD was prompted by field reports that indicated service accuracy problems with the existing turbine inlet temperature system on certain Models PA-46-310P, PA-46-350P, and PA-46R-350T airplanes. We are issuing this AD to prevent improper engine operation caused by improperly calibrated turbine inlet temperature indicators or defective turbine inlet temperature probes, which could result in engine damage/failure with consequent loss of control of the airplane.

Compliance

(f) For Group 1 airplanes: Comply with this AD within the compliance times specified, unless already done.

Table 2—Group 1 Airplanes
[Airplanes previously affected by AD 99-15-04 R1]
Actions | Compliance | Procedures
(1) Clean and inspect the turbine inlet temperature gauge and probe | Within the next 100 hours time-in-service (TIS) after August 31, 1999 (the effective date retained from AD 99-15-04) | Follow Piper Airplane Maintenance Manual PA-46-310P/PA-46-350P Part Number 761-783, Chapter 77-20-00, section A.(1)(d), pages 1 and 2; and Piper Airplane Maintenance Manual PA-46-350P Part Number 761-876, Chapter 77-20-00, section 1.C, pages 1 and 2, as applicable.
(2) Calibrate the turbine inlet temperature system | Within the next 100 hours TIS after August 31, 1999 (the effective date retained from AD 99-15-04) | Follow Piper Airplane Maintenance Manual PA-46-310P/PA-46-350P Part Number 761-783, Chapter 77-20-00, section A.(1)(g), pages 3 and 4; and Piper Airplane Maintenance Manual PA-46-350P Part Number 761-876, Chapter 77-20-00, section 1.F, pages 2 through 4, as applicable; or Piper Service Bulletin No. 995C, dated November 17, 2009.
(3) If the turbine inlet temperature probe fails the inspection required in paragraph (f)(1) of this AD and/or the turbine inlet temperature system indicator cannot be calibrated as required in paragraph (f)(2) of this AD, replace any failed parts with a serviceable part listed in table 1 of this AD as long as it has been inspected and properly calibrated | Before further flight after the cleaning and inspection required in paragraph (f)(1) and the calibration required in paragraph (f)(2) of this AD | Follow Piper Airplane Maintenance Manual PA-46-310P/PA-46-350P Part Number 761-783, Chapter 77-20-00, section A.(1)(f), page 2; and Piper Airplane Maintenance Manual PA-46-350P Part Number 761-876, Chapter 77-20-00, section 1.E., page 2, as applicable; or Piper Service Bulletin No. 995C, dated November 17, 2009.
(4) Incorporate the information from Appendix 1 and Appendix 2, as applicable, of this AD into the Emergency Procedures section of the pilot operating handbook (POH). This may be done by inserting a copy of this AD into the POH | Within the next 100 hours TIS after August 31, 1999 (the effective date retained from AD 99-15-04) | Not applicable.
(5) Only install a part listed in table 1 of this AD after it has been inspected and properly calibrated | As of July 28, 2000 (the effective date of AD 99-15-04 R1) | Not applicable.
(6) Model PA-46-350P airplanes only: Replace the turbine inlet temperature probe with a new part number 481-389, 481-392, or 686-216 probe preferred). This action is not required for Model PA-46-310P | Upon accumulating 250 hours TIS on the currently installed turbine inlet temperature probe or within the next 100 hours TIS after August 31, 1999 (the effective date retained from AD 99-15-04), whichever occurs later, and thereafter at intervals not to exceed 250 hours TIS | For serial numbers 4622001 through 4622200: Follow Piper Airplane Maintenance Manual PA-46-310P/PA-46-350P Part Number 761-783, Chapter 77-20-00, section A.(1)(f), page 2; or Piper Service Bulletin No. 995C, dated November 17, 2009.
|  | For serial numbers 4636001 through 4636020: Follow Piper Airplane Maintenance Manual PA-46-350P Part Number 761-876, Chapter 77-20-00, section 1.E., page 2: or Piper Service Bulletin No. 995C, dated November 17, 2009.

(g) For Group 2 airplanes: Comply with this AD within the compliance times specified, unless already done.

Table 3—Group 2 Airplanes
[Airplanes not previously affected by AD 99-15-04 R1]
Actions | Compliance | Procedures
(1) Model PA-46-350P airplanes, S/Ns 4636021 through 4636374 only: Clean and inspect the turbine inlet temperature gauge and probe | Within the next 100 hours TIS after the effective date of this AD | Follow Piper Airplane Maintenance Manual PA-46-350P Part Number 761-876, Chapter 77-20-00, section 1.C, pages 1 and 2, as applicable.
(2) Model PA-46-350P airplanes, S/Ns 4636021 through 4636374 only: If the turbine inlet temperature probe fails the inspection required in paragraph (g)(1) of this AD and/or the turbine inlet temperature system indicator cannot be calibrated as required in paragraph (g)(2) of this AD, replace any failed parts with a serviceable part listed in table 1 of this AD as long as it has been inspected and properly calibrated | Before further flight after the cleaning and inspection required in paragraph (g)(1) and the calibration required in paragraph (g)(2) of this AD | Follow Piper Service Bulletin No. 995C, dated November 17, 2009.
(3) All Group 2 airplanes: Replace the turbine inlet temperature probe with a new part number 686-216 probe | Upon accumulating 250 hours TIS on the currently installed turbine inlet temperature probe or within the next 100 hours TIS after the effective date of this AD, whichever occurs later, and thereafter at intervals not to exceed 250 hours TIS | Piper Service Bulletin No. 995C, dated November 17, 2009.
(4) All Group 2 airplanes: Incorporate the information from Appendix 2 of this AD into the Emergency Procedures section of the POH. This may be done by inserting a copy of this AD into the POH | Within the next 100 hours TIS after the effective date of this AD | Not applicable.
(5) All Group 2 airplanes: Only install a part listed in table 1 of this AD after it has been inspected and properly calibrated | As of the effective date of this AD | Not applicable.

Alternative Methods of Compliance (AMOCs)

(h)(1) The Manager, Atlanta Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

(3) AMOCs approved for AD 99-15-04 R1 are approved as AMOCs for this AD.

Related Information

(i) For more information about this AD, contact Darby Mirocha, Aerospace Engineer, FAA, Atlanta Aircraft Certification Office, 1701 Columbia Avenue, College Park, Georgia 30337; phone: (404) 474-5573; fax: (404) 474-5605; e-mail: darby.mirocha@faa.gov.

(j) For service information identified in this AD, contact Piper Aircraft, Inc., 2926 Piper Drive, Vero Beach, Florida 32960; telephone: (772) 567-4361; fax: (772) 978-6573; Internet: http://www.piper.com/home/pages/publications.cfm. You may review copies of the referenced service information at the FAA, Small Airplane Directorate, 901 Locust St., Kansas City, MO 64106. For information on the availability of this material at the FAA, call (816) 329-4148.

Appendix 1 to Docket No. FAA-2010-1295

Model PA-46-310P (Mailbu)—Emergency Procedures for the Pilot's Operating Handbook (POH)

(1) If the turbine inlet temperature indication fails or is suspected of failure during takeoff, climb, descent, or landing, maintain FULL RICH mixture to assure adequate fuel flow for engine cooling.

(2) If the turbine inlet temperature indication fails or is suspected of failure after cruise power has been set, maintain cruise power setting and lean to 6 gallons per hour (GPH) fuel flow above that specified in the Power Setting Table in Section 5 of the AFM/POH. Continually monitor engine cylinder head and oil temperatures to avoid exceeding temperature limits.

Appendix 2 to Docket No. FAA-2010-1295

Model PA-46-350P (Malibu Mirage) and Model PA-46R-350T (Matrix)—Emergency Procedures for the Pilot's Operating Handbook (POH)

(1) If the turbine inlet temperature indication fails or is suspected of failure during takeoff, climb, descent or landing, set power per the POH Section 5 Power Setting Table and then lean to the approximate POH Power Setting Table fuel flow plus 4 GPH.

(2) If the turbine inlet temperature indication fails or is suspected of failure after cruise power has been set, maintain the power setting and increase indicated fuel flow by 1 GPH. Continually monitor engine cylinder head and oil temperatures to avoid exceeding temperature limits.

Issued in Kansas City, Missouri on December 22, 2010.
Earl Lawrence,
Manager, Small Airplane Directorate, Aircraft Certification Service.

[FR Doc. 2010-32959 Filed 12-29-10; 8:45 am]

BILLING CODE 4910-13-P